DEPARTMENT OF ENERGY

Bonneville Power Administration

Chief Joseph Hatchery Program

AGENCY: Bonneville Power Administration (BPA), Department of Energy (DOE).

ACTION: Notice of availability of Record of Decision (ROD).

SUMMARY: This notice announces the availability of the ROD to implement the proposed action identified in BPA's Chief Joseph Hatchery Program Environmental Impact Statement (DOE/EIS-0384, November 2009). BPA has decided to fund the construction, operation, and maintenance of the Chief Joseph Hatchery and associated facilities in Okanogan County, Washington and adopt the mitigation measures in the Mitigation Action Plan. All practicable means to avoid or minimize environmental harm are adopted. The hatchery program will produce juvenile Chinook salmon and will help mitigate for the effects of the Federal Columbia River Power System on fish and wildlife by enhancing Chinook populations below Chief Joseph Dam in the Okanogan River subbasin and upper middle Columbia River subbasin, and by complementing other on-going salmon protection and mitigation measures. The U.S. Army Corps of Engineers (USACE), the operator of the Chief Joseph Dam, is a Federal cooperating agency under NEPA; the Confederated Tribes of the Colville Reservation are the project sponsors and will own and operate the Chinook salmon production program and hatchery facilities. The National Oceanic and Atmospheric Administration's National Marine Fisheries Service, the U.S. Fish and Wildlife Service; and the State of Washington's Department of Fish and Wildlife were consulted during the development of the EIS. BPA is issuing this ROD for its actions only; the USACE will issue its own separate ROD.

ADDRESSES: Copies of the ROD and EIS may be obtained by calling BPA's toll-free document request line, 1-800-622-4520. The ROD and EIS Summary are also available on our Web site, http://www.efw.bpa.gov.

FOR FURTHER INFORMATION, CONTACT: Mickey Carter, Bonneville Power Administration—KEC-4, P.O. Box 3621, Portland, Oregon 97208-3621; toll-free telephone number 1-800-622-4519; fax number 503-230-5699; or e-mail macarter@bpa.gov.

Issued in Portland, Oregon, on March 18, 2010.
Stephen J. Wright,
Administrator and Chief Executive Officer.

[FR Doc. 2010-6881 Filed 3-26-10; 8:45 am]

BILLING CODE 6450-01-P